DEPARTMENT OF HOMELAND SECURITY

U.S. Citizenship and Immigration Services

[CIS No. 2828-25; DHS Docket No. USCIS-2021-0003]

RIN 1615-ZB86

Termination of the 2021 Designation of Venezuela for Temporary Protected Status

AGENCY: U.S. Citizenship and Immigration Services (USCIS), Department of Homeland Security (DHS).

ACTION: Notice.

SUMMARY: Through this notice, the Department of Homeland Security (DHS) announces that the Secretary of Homeland Security (Secretary) is terminating the 2021 designation of Venezuela for Temporary Protected Status (TPS). The 2021 designation of Venezuela is set to expire on September 10, 2025. After reviewing country conditions and consulting with appropriate U.S. Government agencies, the Secretary determined that Venezuela no longer continues to meet the conditions for the 2021 designation for Temporary Protected Status. The Secretary, therefore, is terminating the 2021 Temporary Protected Status designation of Venezuela as required by statute. This termination is effective November 7, 2025. After November 7, 2025, nationals of Venezuela (and aliens having no nationality who last habitually resided in Venezuela) who have been granted Temporary Protected Status under Venezuela's 2021 designation will no longer have Temporary Protected Status.

DATES: The 2021 designation of Venezuela for TPS is terminated, effective at 11:59 p.m., local time, on November 7, 2025.

FOR FURTHER INFORMATION CONTACT: Humanitarian Affairs Division, Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

USCIS—U.S. Citizenship and Immigration Services

U.S.C.—United States Code

What is temporary protected status?

The Immigration and Nationality Act (INA) authorizes the Secretary of Homeland Security, after consultation with appropriate agencies of the U.S. Government, to designate a foreign state (or part thereof) for Temporary Protected Status (TPS) if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status to determine whether the conditions for the Temporary Protected Status designation continue to be met. See INA sec. 244(b)(3)(A), 8 U.S.C. 1254a(b)(3)(A). If the Secretary determines that the conditions in the foreign state continue to meet the specific statutory criteria for Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated for Temporary Protected Status under the INA, or to eligible aliens without nationality who last habitually resided in the designated country. During the designation period, Temporary Protected Status beneficiaries are eligible to remain in the United States, may not be removed, and are authorized to work and obtain an Employment Authorization Document (EAD) so long as they continue to meet the requirements of Temporary Protected Status. Temporary Protected Status beneficiaries may also apply for and be granted travel authorization as a matter of discretion. The granting of Temporary Protected Status does not result in or lead to lawful permanent resident status or any other immigration status. To qualify for Temporary Protected Status, beneficiaries must meet the eligibility standards at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

2021 Designation of Venezuela for Temporary Protected Status

Venezuela was initially designated for Temporary Protected Status on March 9, 2021, for a period of 18 months, on the basis of extraordinary and temporary conditions in Venezuela that prevented nationals of Venezuela from returning in safety. See Designation of Venezuela for Temporary Protected Status and Implementation of Employment Authorization for Venezuelans Covered by Deferred Enforced Departure, 86 FR 13574 (Mar. 9, 2021). Following the initial designation, Temporary Protected Status for Venezuela was extended again for a period of 18 months from September 10, 2022, through March 10, 2024, based on extraordinary and temporary conditions.¹ Thereafter, former Secretary Mayorkas extended the Venezuela 2021 Temporary Protected Status designation for another 18 months with an expiration date of September 10, 2025 on the basis of extraordinary and temporary conditions, and separately newly designated Venezuela for 18 months, a decision the former Secretary called a “redesignation” (Venezuela 2023 designation) with an expiration of April 2, 2025, resulting in two separate and concurrent Venezuela Temporary Protected Status designations.²

¹ See Extension of the Designation of Venezuela for Temporary Protected Status, 87 FR 55024 (Sept. 8, 2022).

² See Extension and Redesignation of Venezuela for Temporary Protected Status, 88 FR 68130 (Oct. 3, 2023).

On January 17, 2025, former Secretary Mayorkas issued a notice extending the 2023 designation of Venezuela for Temporary Protected Status for 18 months on the basis of extraordinary and temporary conditions.³ In that notice, former Secretary Mayorkas allowed for a consolidation of filing processes such that all eligible Venezuela Temporary Protected Status beneficiaries (whether under the 2021 or 2023 designation) could obtain Temporary Protected Status through the same extension date of October 2, 2026.⁴

³ See Extension of the 2023 Designation of Venezuela for Temporary Protected Status, 90 FR 5961 (Jan. 17, 2025).

⁴ Id.

On January 28, 2025, Secretary Noem vacated former Secretary Mayorkas's January 10, 2025 decision, restoring the status quo that preceded that decision.⁵ On February 5, 2025, Secretary Noem issued a notice terminating Temporary Protected Status for Venezuela under the 2023 designation.⁶ The vacatur and termination determinations were the subject of litigation, even though the statute is clear that Temporary Protected Status decisions are not subject to judicial review.⁷ On March 31, 2025, the U.S. District Court for the Northern District of California issued a nationwide order postponing the February 5, 2025 termination and vacatur of Temporary Protected Status for Venezuela.⁸ On May 19, 2025, the U.S. Supreme Court granted the government's request for an emergency stay of the district court's order.⁹ Thus, the 2023 designation of Venezuela for Temporary Protected Status has been terminated pursuant to Secretary Noem's February 5, 2025 decision.¹⁰ Separately, Temporary Protected Status under the 2021 designation for Venezuela remains in effect through September 10, 2025.

⁵ See Vacatur of 2025 Temporary Protected Status Decision for Venezuela, 90 FR 8805 (Feb. 3, 2025).

⁶ See Termination of the October 3, 2023 Designation of Venezuela for Temporary Protected Status, 90 FR 9040 (Feb. 5, 2025).

⁷ See INA sec. 244(b)(5)(A), 8 U.S.C. 1254a(b)(5)(A).

⁸ Nat'l TPS All. v. Noem, 773 F. Supp. 3d 807 (N.D. Cal. 2025), appeal pending, No. 25-2120 (9th Cir. filed Apr. 2, 2025).

⁹ Noem v. Nat'l TPS All., No. 24A1059, 2025 WL 1427560 (U.S. May 19, 2025).

¹⁰ On May 30, 2025, the district court narrowed the scope of Temporary Protected Status holders who are entitled to relief, limiting relief to those aliens who received Temporary Protected Status-related documentation based on the October 2, 2026 expiration date for those that received Temporary Protected Status-related documentation from January 17, 2025 up through February 5, 2025. Additionally, the court postponed the effective date of the portion of the Secretary's vacatur decision purporting to invalidate those documents until the case is resolved on the merits. See Nat'l TPS All. v. Noem, No. 3:25-cv-01766, 2025 WL 1547628 (N.D. Cal. May 30, 2025).

Secretary's Authority To Terminate the 2021 Designation of Venezuela for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary, at her discretionary option, may determine the appropriate effective date of the termination and expiration of any Temporary Protected Status-related documentation, such as EADs, issued or renewed after the effective date of termination. See id.; see also INA sec. 244(d)(3), 8 U.S.C. 1254a(d)(3) (providing the Secretary the discretionary “option” to allow for a certain “orderly transition” period if she determines it to be appropriate).

Reasons for the Secretary's Termination of the 2021 Temporary Protected Status Designation for Venezuela

Consistent with INA section 244(b)(3)(A), 8 U.S.C. 1254a(b)(3)(A), after consulting with appropriate U.S. Government agencies, the Secretary reviewed country conditions in Venezuela and considered whether Venezuela continues to meet the conditions for the designation under INA section 244(b)(1)(C), 8 U.S.C. 1254a(b)(1)(C). This review included examining: (a) whether extraordinary and temporary conditions in Venezuela that prevent Venezuelan nationals from returning in safety continue to exist, and (b) if permitting Venezuelan nationals to remain temporarily in the United States is contrary to the national interest of the United States.

Overall, certain conditions for the 2021 Temporary Protected Status designation of Venezuela may continue; however, there are notable improvements in several areas that allow for these nationals to be safely returned to their home country. For example, there have been measurable improvements in Venezuela's economic outlook. Venezuela produced 820,000 barrels of oil daily as reported in July 2024, which was 70,000 more than a year prior and almost twenty percent more than two years prior.¹¹ Hyperinflation dropped significantly from 337% in 2023 to 59.6% in 2024, according to the International Monetary Fund.¹² Real GDP growth reached 5.3% in 2024, up from 4% in 2023.¹³ Notably, the number of Venezuelans returning to their country of origin increased in 2023.¹⁴ The United Nations High Commissioner for Refugees and International Organization for Migration have noted that “for every two Venezuelans leaving, one is returning, with 66% of the interviewed returnees expressing their intention to remain in the country.” ¹⁵

¹¹ El Pais, “Venezuela experiences an economic recovery in times of electoral uncertainty” July 22, 2024, https://english.elpais.com/economy-and-business/2024-07-22/venezuela-experiences-an-economic-recovery-in-times-of-electoral-uncertainty.html.

¹² Library of Congress, Congressional Research Service, “Venezuela: Political Crisis and U.S. Policy,” Apr. 4, 2025, https://www.congress.gov/crs-product/IF10230.

¹³ International Monetary Fund, “Real GDP Growth: Venezuela,” https://www.imf.org/external/datamapper/NGDP_RPCH@WEO/VEN?year=2024.

¹⁴ IOM, “Venezuela (Bolivarian Republic of) Crisis Response Plan 2024” May 21, 2024, https://crisisresponse.iom.int/response/venezuela-bolivarian-republic-crisis-response-plan-2024.

¹⁵ UNHCR, “Bolivarian Republic of Venezuela Annual Results Report 2024” May 29, 2025, https://www.unhcr.org/us/media/bolivarian-republic-venezuela-annual-results-report-2024.

Based on the Department's review, the Secretary has determined that, even assuming the relevant conditions in Venezuela remain both “extraordinary” and “temporary,” termination of the 2021 Venezuela Temporary Protected Status designation is required because it is contrary to the national interest to permit the Venezuelan nationals (or aliens having no nationality who last habitually resided in Venezuela) to remain temporarily in the United States.¹⁶

¹⁶ See INS v. Bagamasbad, 429 U.S. 24, 25 (1976) (per curiam) (“As a general rule courts and agencies are not required to make findings on issues the decision of which is unnecessary to the results they reach.”); see also, e.g., Pazine v. Garland, 115 F.4th 53, 64 (1st Cir. 2024) (“[I]t is black-letter law that `agencies are not required to make findings on issues the decision of which is unnecessary to the results they reach' . . . .” (quoting Bagamasbad, 429 U.S. at 25)).

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).¹⁷ Determining whether permitting a class of aliens to remain temporarily in the United States is contrary to the U.S. national interest therefore calls upon the Secretary's expertise and discretionary judgment, informed by her consultations with appropriate U.S. Government agencies.

¹⁷ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

Based on her review, the Secretary has determined that termination of Temporary Protected Status for Venezuela is required because it is contrary to the national interest to permit Venezuelan nationals (or aliens having no nationality who last habitually resided in Venezuela) to remain temporarily in the United States.

President Trump clearly articulated policy imperatives bearing upon the national interest in his immigration and border-related executive orders and proclamations. In Proclamation 10888, “Guaranteeing the States Protection Against Invasion,” President Trump emphasized that Congress has established a complex and comprehensive framework under the INA to regulate the entry and exit of aliens and goods across U.S. borders.¹⁸ Under normal conditions, this framework supports national sovereignty by enabling the admission of aliens whose presence serves the national interest and excluding those who may pose risks to public health, safety, or national security. However, in a high-volume border environment—particularly when the system is overwhelmed—this screening process can become ineffective. Limited access to critical information and significant processing delays hinders the ability of federal officials to reliably assess the criminal histories or national security threats posed by aliens attempting to enter the U.S. illegally. As a result, public safety and national security risks are significantly heightened in such conditions.¹⁹

¹⁸ See Guaranteeing the States Protection Against Invasion, 90 FR 8333 (Jan. 29, 2025).

¹⁹ Id.

In Executive Order 14161, “Protecting the United States From Foreign Terrorists and Other National Security and Public Safety Threats,” President Trump instructed the Secretary of State, Attorney General, Secretary of Homeland Security, and Director of National Intelligence to jointly submit to the President a report that identified countries throughout the world “for which vetting and screening information is so deficient as to warrant a partial or full suspension on the admission of nationals from those countries.” ²⁰ In Proclamation 10949, “Restricting the Entry of Foreign Nationals to Protect the United States from Foreign Terrorists and Other National Security and Public Safety Threats,” President Trump partially restricted and limited the entry of nationals from Venezuela following his review of the requested report.²¹ In support of this decision, President Trump outlined that “Venezuela lacks a competent or cooperative central authority for issuing passports or civil documents and it does not have appropriate screening and vetting measures.²² Venezuela has historically refused to accept back its removable nationals. According to the FY 2023 Entry/Exit Overstay Report, Venezuela had a B-1/B-2 [nonimmigrant visa] overstay rate of 9.83 percent.” ²³

²⁰ Protecting the United States From Foreign Terrorists and Other National Security and Public Safety Threats, 90 FR 8451 (Jan. 30, 2025).

²¹ See Restricting the Entry of Foreign Nationals to Protect the United States From Foreign Terrorists and Other National Security and Public Safety Threats, 90 FR 24497 (June 10, 2025).

²² Id.

²³ CBP, Entry/Exit Overstay Report Fiscal Year 2023 Report to Congress, Aug. 5, 2025, https://www.dhs.gov/sites/default/files/2024-10/24_1011_CBP-Entry-Exit-Overstay-Report-FY23-Data.pdf.

In Executive Order 14159, “Protecting the American People Against Invasion,” President Trump underscored that enforcing the immigration laws “is critically important to the national security and public safety of the United States.” ²⁴ In furtherance of that objective, the President directed the Secretary of Homeland Security, along with the Attorney General and Secretary of State, to promptly take all appropriate action, consistent with law, to rescind policies that led to increased or continued presence of illegal aliens in the United States.²⁵ Among the directed actions are to ensure that Temporary Protected Status designations are consistent with the Temporary Protected Status statute and “are appropriately limited in scope and made for only so long as may be necessary to fulfill the textual requirements of that statute.” ²⁶

²⁴ Protecting the American People Against Invasion, 90 FR 8443 (Jan. 29, 2025).

²⁵ Id., sec. 16, 90 FR 8446.

²⁶ Id., sec. 16(b), 90 FR 8446.

The Migration Policy Institute estimates that, as of 2023, 74% of Venezuelan nationals in the United States arrived since 2010, and just 14% of Venezuelans arrived before 2000.²⁷ According to U.S. Customs and Border Protection (CBP) data, there were 189,520 apprehensions of Venezuelans in Fiscal Year 2022, 334,914 in Fiscal Year 2023, 313,496 in Fiscal Year 2024, and 65,204 in Fiscal Year 2025 (based on data from October 2024 to April 2025).²⁸ A July 2024 report found that “in the first five months of the year [2024], CBP agents encountered more than 900,000 illegal aliens at the U.S.-Mexico border. The majority hailed from just six countries: Mexico, Guatemala, Venezuela, Cuba, Ecuador, and Colombia, in descending order.” ²⁹ These figures underscore the dramatic recent increase in Venezuelan migration to the United States and highlight Venezuela's continued role as a major driver of irregular migration at the southern border.

²⁷ Migration Policy Institute, “Venezuelan Immigrants in the United States” Feb. 6, 2025, https://www.migrationpolicy.org/article/venezuelan-immigrants-united-states.

²⁸ U.S. Customs and Border Protection “Nationwide Encounters,” (last updated May 5, 2025), https://www.cbp.gov/newsroom/stats/nationwide-encounters.

²⁹ Council on Foreign Relations, “Why Six Countries Account for Most Migrants at the U.S.-Mexico Border” July 9, 2024, https://www.cfr.org/article/why-six-countries-account-most-migrants-us-mexico-border.

Programs like Temporary Protected Status can act as additional pull factors, potentially worsening an already unsustainable situation. This is particularly so in the case of Venezuela, a country that has been a significant contributor to migration at the southern border and that has caused a sharp increase in irregular migration to the United States. The Attorney General and DHS have long recognized that the potential “magnet effect” of a Temporary Protected Status designation is a valid consideration when evaluating eligibility under the Temporary Protected Status statute.³⁰ A November 2023 report highlighted the impact of the previous administration's Temporary Protected Status designation for Venezuela: “with the Biden administration's announcement redesignating Venezuela as continuing to be eligible for TPS for all who arrived in the United States before July 31, 2023, and with over 472,000 [Venezuelan nationals] potentially benefitting from the measure and quickly allowing them to work legally, the magnetic pull north continues to be a factor.” ³¹ Given Venezuela's substantial role in driving irregular migration and the clear magnet effect created by Temporary Protected Status, maintaining or expanding Temporary Protected Status for Venezuelan nationals directly undermines efforts to secure the southern border and manage migration effectively.

³⁰ See Extension of Designation and Redesignation of Liberia Under Temporary Protected Status Program, 62 FR 16608, 16609 (Apr. 7, 1997) (“One factor in determining whether redesignation is appropriate is whether it will create a `magnet effect' for nationals of the country under consideration. In cases where the Attorney General contemplates redesignation, she may consider this possible magnet effect and any other factors weighing against redesignation, together with any discretionary factors in favor of redesignation.”).

³¹ Center for Strategic and International Studies, “The Persistence of the Venezuelan Migrant and Refugee Crisis” Nov. 27, 2023, https://www.csis.org/analysis/persistence-venezuelan-migrant-and-refugee-crisis.

On January 20, 2025, President Trump issued Executive Order 14157, “Designating Cartels and Other Organizations as Foreign Terrorist Organizations and Specially Designated Global Terrorists,” ³² which, on February 20, 2025, led to the Department of State announcement of the designation of eight cartels and transnational organizations, including Tren de Aragua (TdA), as Foreign Terrorist Organizations.³³ The associated fact sheet states: “TdA is a transnational organization that originated in Venezuela with cells in Colombia, Peru, and Chile with further reports of sporadic presence in Ecuador, Bolivia, and Brazil. This brutal criminal group has conducted kidnappings, extorted businesses, bribed public officials, authorized its members to attack and kill U.S. law enforcement, and assassinated a Venezuelan opposition figure.” ³⁴ On March 14, 2025, President Trump issued Proclamation 10903, “Invocation of the Alien Enemies Act Regarding the Invasion of the United States by Tren de Aragua,” which highlighted that “TdA is closely aligned with, and indeed has infiltrated, the Maduro regime, including its military and law enforcement apparatus.” ³⁵

³² See Designating Cartels and Other Organizations as Foreign Terrorist Organizations and Specially Designated Global Terrorists, 90 FR 8439 (Jan. 29, 2025).

³³ See Foreign Terrorist Organization Designations of Tren de Aragua, Mara Salvatrucha, Cartel de Sinaloa, Cartel de Jalisco Nueva Generacion, Carteles Unidos, Cartel del Noreste, Cartel del Golfo, and La Nueva Familia Michoacana, 90 FR 10030 (Feb. 20, 2025).

³⁴ U.S. Department of State, “Designation of International Cartels Fact Sheet,” Feb. 20, 2025, https://www.state.gov/designation-of-intemational-cartels/.

³⁵ See Invocation of the Alien Enemies Act Regarding the Invasion of the United States by Tren de Aragua, 90 FR 13033 (Mar. 20, 2025).

Because of the previous administration's policies, Tren de Aragua has expanded their operations to the United States as well. In February 2025, ICE arrested a suspected Tren de Aragua gang member who was apprehended by Border Patrol in December 2023 for entering without inspection, served the next day with a notice to appear before an immigration judge, and released on an order of recognizance because he was traveling with his spouse and children. He was arrested in May 2024 for indecent assault without consent, indecent assault on a person less than 16 years of age, and harassment.³⁶ In March 2025, DHS and ICE announced the arrest of 68 Tren de Aragua members in less than a week.³⁷ In April 2025, the Department of Justice announced that 27 members or associates of Tren de Aragua were charged with racketeering, narcotics, sex trafficking, robbery, and firearms offenses.³⁸ Also in April 2025, ICE arrested a documented Tren de Aragua gang member who had previously entered the U.S. on April 10, 2023, was taken into custody, and placed into immigration proceedings. Although an immigration judge ordered him removed in March 2024, he absconded from authorities before his removal could be carried out and remained in the United States.³⁹ In June 2025, ICE arrested a Tren de Aragua gang member who attacked an ICE agent and an FBI agent and was charged with attempted murder. He had previously entered the U.S. illegally in 2023 and was removed by U.S. Border Patrol. He subsequently re-entered in 2024 and was released into the country with a notice to appear.⁴⁰ DHS has identified aliens who were documented and/or self-admitted Tren de Aragua members who were apprehended by U.S. Border Patrol under the previous administration and released as part of “catch-and-release.” ⁴¹ This non-exhaustive list highlights the prior administration's failures in adequately vetting aliens entering the country, which has contributed to the entry of numerous Tren de Aragua gang members and posed a serious threat to public safety and national security. These lapses have facilitated the infiltration of violent criminal elements, thereby endangering American communities and undermining the integrity of U.S. immigration benefits such as Temporary Protected Status.

³⁶ ICE, “ICE arrests suspected Tren de Aragua member with history of sexual harassment” Feb. 1, 2025, https://www.ice.gov/news/releases/ice-arrests-suspected-tren-de-aragua-member-history-sexual-harassment.

³⁷ DHS, “DHS Announces Arrest of 68 Tren de Aragua Gang Members in Under 1 Week” Mar. 21, 2025, https://www.dhs.gov/news/2025/03/21Idhs-announces-arrest-68-tren-de-aragua-gang-members-under-1-week.

³⁸ DOJ, “27 Members or Associates of Tren de Aragua Charged with Racketeering, Narcotics, Sex Trafficking, Robbery and Firearms offenses” Apr. 21, 2025, https://www.justice.gov/opa/pr/27-members-or-associates-tren-de-aragua-charged-racketeering-narcotics-sex-trafficking.

³⁹ ICE, “ICE arrests Tren de Aragua gang member illegally residing in Houston area” April 9, 2025, https://www.ice.gov/news/releases/ice-arrests-tren-de-aragua-gang-member-illegally-residing-houston-area.

⁴⁰ ICE, “Press Release: ICE Arrests Criminal Illegal Alien Tren de Aragua Gang Member for Attempting to Murder an ICE Officer” June 20, 2025, https://www.dhs.gov/news/2025/06/20/ice-arrests-criminal-illegal-alien-tren-de-aragua-gang-member-attempting-murder-ice.

⁴¹ DHS, Press Release: “Reuters “Reporting” Fails to Mention that the Biden Administration Released Two Tren de Aragua Gang Members into American Communities,” Apr. 30, 2025, https://www.dhs.gov/news/2025/04/30/reuters-reporting-fails-mention-biden-administration-released-two-tren-de-aragua.

In addition to public safety concerns, there have also been substantiated fraud and vetting failures within this Temporary Protected Status population. For instance, The New York Times recently profiled the case of a Venezuelan national with three felony convictions who was erroneously granted Temporary Protected Status under the prior administration.⁴² This is one of multiple cases underscoring systemic vulnerabilities in screening and vetting processes for nationals of Venezuela, and, therefore, supports an assessment that, in DHS's view, it is contrary to the national interest to continue Temporary Protected Status for Venezuela under the 2021 designation.

⁴² The New York Times, “Detention and Deportation as Seen Through a Family Group Chat” June 10, 2025, https://www.nytimes.com/interactive/2025/06/10/us/politics/trump-immigrant-family-deportation-joumey.html?smid=nytcore-ios-share&referringSource=articleShare.

Furthermore, DHS records indicate there are Venezuelan nationals (or aliens who last habitually resided in Venezuela) who are Temporary Protected Status beneficiaries or applicants who are or have been the subject of administrative investigations for fraud, public safety and national security. The Secretary accordingly took account of those cases in making her determination, as fraud and egregious public safety violations are contrary to the national interest.

In Executive Order 14150, “America First Policy Directive to the Secretary of State,” President Trump declared “from this day forward, the foreign policy of the United States shall champion core American interests and always put America and American citizens first.” Moreover, in Executive Order 14150, President Trump instructed “as soon as practicable, the Secretary of State shall issue guidance bringing the Department of State's policies, programs, personnel, and operations in line with an America First foreign policy, which puts America and its interests first.” ⁴³ On March 24, 2025, in Executive Order 14245, President Trump announced his intention to impose tariffs on countries importing Venezuelan oil. The Executive Order states: “the actions and policies of the regime of Nicolas Maduro in Venezuela continue to pose an unusual and extraordinary threat to the national security and foreign policy of the United States . . . furthermore, Venezuela's ongoing destabilizing actions, including its support for illicit activities, necessitate further economic measures to protect United States interests.” ⁴⁴ On March 15, 2025, in Proclamation 10903, President Trump stated that the Maduro regime had a “goal of destabilizing democratic nations in the Americas, including the United States.” ⁴⁵ In a May 27, 2025 briefing, a Department of State representative commenting on the expired Chevron oil license for Venezuela stated “we are going to continue to deny any funding of the Maduro regime that it uses to oppress the Venezuelan people.” ⁴⁶ In a recent meeting with Venezuelan opposition figures, Secretary Rubio “reaffirmed the United States' support for the restoration of democracy in Venezuela and the release of all political prisoners, as well as the safe return of arbitrarily detained Americans and other foreign nationals in Venezuela.” ⁴⁷ This view was reiterated in a July 2025 Department of State press statement issued after the release of American citizens who had been wrongfully detained in Venezuela.⁴⁸ Sustaining the 2021 Temporary Protected Status designation for Venezuela could undercut the United States' foreign policy objectives of a peaceful, democratic resolution to Venezuela's political crisis by relieving pressure on Maduro's regime to enact domestic reforms and facilitate safe return conditions.

⁴³ America First Policy Directive to the Secretary of State, 90 FR 8337 (Jan. 29, 2025).

⁴⁴ Imposing Tariffs on Countries Importing Venezuelan Oil, 90 FR 13829 (Mar. 27, 2025).

⁴⁵ Invocation of the Alien Enemies Act Regarding the Invasion of the United States by Tren de Aragua, 90 FR 13033 (Mar. 20, 2025).

⁴⁶ DOS, “Department Press Briefing—May 27, 2025” May 27, 2025, https://www.state.gov/briefings/department-press-briefing-may-27-2025/.

⁴⁷ DOS, “Press Release: Secretary Rubio's Meeting with Venezuelan Opposition Figures” May 23, 2025, https://www.state.gov/releases/office-of-the-spokesperson/2025/05/secretary-rubios-meeting-with-venezuelan-opposition-figures/.

⁴⁸ DOS, “Press Release: Welcoming the Release of U.S. Nationals and Political Prisoners Held in Venezuela” July 18, 2025, https://www.state.gov/releases/office-of-the-spokesperson/2025/07/welcoming-the-release-of-u-s-nationals-and-political-prisoners-held-in-venezuela/. (“The Trump Administration continues to support the restoration of democracy in Venezuela.”).

In sum, the Secretary's decision to terminate the 2021 Temporary Protected Status designation for Venezuela is grounded in a comprehensive assessment of national interest factors including public safety, national security, migration factors, immigration policy, economic considerations, and foreign policy. In considering these factors individually and cumulatively, the Secretary has determined that permitting Venezuelan nationals to remain temporarily in the United States is contrary to the U.S. national interest.⁴⁹

⁴⁹ This determination is consistent with the Secretary's February 5, 2025 national interest determination with respect to the 2023 TPS designation for Venezuela. See 90 FR 9042-43.

DHS estimates that there are 268,156 current approved beneficiaries under the 2021 designation of Temporary Protected Status for Venezuela. As of June 24, 2025, there are 106,673 total pending applications for the 2021 designation of Temporary Protected Status for Venezuela.⁵⁰

⁵⁰ There are 268,156 total approved beneficiaries under the 2021 designation of Temporary Protected Status for Venezuela. There are 4,813 total approved beneficiaries under the 2023 new designation of Temporary Protected Status for Venezuela. The total approved beneficiaries are 272,969 between the two designations. There are 106,673 total pending applications under the 2021 designation of Temporary Protected Status for Venezuela. There are 293,479 total pending applications under the 2023 redesignation of Temporary Protected Status for Venezuela. The total of pending applications is 400,152 between the two designations. Estimates as of June 24, 2025.

Effective Date of Termination of the 2021 Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an extended “orderly transition” period with respect to the termination and the expiration of any Temporary Protected Status-related documentation, such as EADs. The Secretary has determined, in her discretion, that a 60-day transition period is sufficient and warranted here given the Secretary's finding that continuing to permit the Venezuelan nationals to remain temporarily in the United States is contrary to the U.S. national interest. See INA sec. 244(d)(3), 8 U.S.C. 1254a(d)(3). Accordingly, the termination of the 2021 Venezuela TPS designation will be effective 60 days from this notice's publication date.⁵¹

⁵¹ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Venezuela Temporary Protected Status beneficiaries under the 2021 designation continue to be employment-authorized during the 60-day transition period.⁵² Accordingly, through this Federal Register notice, DHS automatically extends the validity of certain EADs previously issued under the 2021 Temporary Protected Status designation of Venezuela through November 7, 2025. Therefore, as proof of continued employment authorization through November 7, 2025, TPS beneficiaries can show their EADs that have the notation A-12 or C-19 under Category and a “Card Expires” dates of September 9, 2022, March 10, 2024, and September 10, 2025.

⁵² See INA 244(a)(1)(B), 8 U.S.C. 1254a(a)(1)(B); see also 8 CFR 244.13(b).

The Secretary has considered putative reliance interests in the 2021 Venezuela TPS designation, especially when considering whether to allow for an additional transition period akin to that allowed under certain previous Temporary Protected Status terminations. Temporary Protected Status, as the name itself makes clear, is an inherently temporary status. Temporary Protected Status designations are time-limited and must be periodically reviewed, and Temporary Protected Status notices clearly notify aliens of the designations' expiration dates, and whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the 2021 TPS Designation of Venezuela

By the authority vested in me as Secretary under INA Section 244(b)(3), 8 U.S.C. 1254a(b)(3), I have reviewed, in consultation with the appropriate U.S. Government agencies, (a) conditions in Venezuela; and (b) whether permitting the nationals of Venezuela (and aliens having no nationality who last habitually resided in Venezuela) to remain temporarily in the United States is contrary to the national interest of the United States. Based on my review, I have determined that Venezuela no longer continues to meet the conditions for Temporary Protected Status under INA Section 244(b)(1)(C), 8 U.S.C. 1254a(b)(1)(C).

Accordingly, I order as follows:

(1) Pursuant to INA Section 244(b)(3)(B), 8 U.S.C. 1254a(b)(1)(B), and considering INA Section 244(d)(3), 8 U.S.C. 1254a(d)(3), the 2021 designation of Venezuela for Temporary Protected Status is terminated effective at 11:59 p.m., local time, on November 7, 2025.

(2) Information concerning the termination of Temporary Protected Status for nationals of Venezuela (and aliens having no nationality who last habitually resided in Venezuela) under the 2021 designation will be available at local USCIS offices upon publication of this notice and through the USCIS Contact Center at 1-800-375-5283. This information will also be published on the USCIS website at www.uscis.gov.

Kristi Noem,
Secretary of Homeland Security.

[FR Doc. 2025-17087 Filed 9-5-25; 8:45 am]

BILLING CODE 9111-97-P